DEPARTMENT OF HOUSING AND URBAN DEVELOPMENT

[Docket No. FR-7041-N-04]

60-Day Notice of Proposed Information Collection: Older Adult Home Modification Evaluation

AGENCY: Office of the Assistant Secretary for Policy Development and Research, Housing and Urban Development (HUD).

ACTION: Notice.

SUMMARY: The U.S. Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: November 15, 2021.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Older Adult Home Modification Evaluation.

OMB Approval Number: 252-New.

Type of Request: New request.

Form Number: N/A.

Description of the need for the information and proposed use: Congress authorized HUD to make grants to experienced non-profit organizations, States, local governments, or public housing agencies for safety and functional home modification repairs to meet the needs of low-income elderly homeowners to enable them to remain in their primary residence. This information collection supports HUD's evaluation on the effectiveness of the grants. HUD will both evaluate grantee implementation and the impact of the modification on the client recipients whose homes are modified.

Respondents: Office of Lead Hazard Control and Healthy Homes Grantees and Recipients for home modifications.

Total Burden Estimate: The table below reflects our estimate of the burden on the grantees and the home modification recipients.

Respondent's Obligation: Grantees' participation in the Evaluation is mandatory, as it is a stipulation for receiving grant funds. Clients' participation in the Evaluation is voluntary and participation does not affect their eligibility to receive home modifications.

Legal Authority: The data collection is conducted under Title 12, United States Code, Section. 1701z and Section 3507 of the Paperwork Reduction Act of 1995, 44, U.S.C., 35, as amended.

Estimated Time and Costs to Grantee Respondents
Information collection | Respondents per annum | Frequency of response | Burden hour per response | Annual burden hours | Hourly cost per response | Annual cost
Client Eligibility Documentation Form * | 4,478 | 1 | 0.08 | 373 | $33.46 | $12,485
Lost-to-Project Form * | 2,790 | 1 | 0.08 | 233 | 33.46 | 7,780
OAHM Program Documentation of Work Completed Form | 2,250 | 1 | 0.50 | 1,125 | 33.46 | 37,643
Grantee Process Evaluation Online Survey * | 32 | 1 | 4.00 | 128 | 33.46 | 4,283
Grantee Site Visit Interview Guide * | 5.3 | 2 | 2.00 | 21 | 33.46 | 714
Total | 9,555 |  | 6.67 | 1,880 |  | 62,904
Total Over 3 Years |  |  | 20.00 | 5,640 |  | 188,712
* The 32 grantees will be expected to complete the Evaluation Client Eligibility Documentation form and the Lost-to-Project form for all prospective clients. One program manager from each of the 32 grantees will complete the Grantee Process Evaluation Online Survey each year. The Contractor will administer Grantee Site Visit Interview Guide to up to two grantee representatives at up to 16 site visits.

Estimated Time and Costs to Client Recipient Respondents
Information collection | Respondents per annum | Frequency of response | Burden hour per response | Annual burden hours | Hourly cost per response e | Annual hourly cost per response
OAHM Client Program Questionnaire Baseline | 3,000 | 1 | 0.10 | 300 | $11.31 | $3,393
OAHM Client Program Questionnaire Post-modification | 1,688 | 1 | 0.10 | 169 | 11.31 | 1,909
OAHM Program Evaluation Informed Consent | 2,250 | 1 | 0.25 | 563 | 11.31 | 6,362
Home Hazard Checklist Baseline | 3,000 | 1 | 0.42 | 1,250 | 11.31 | 14,138
Home Hazard Checklist Post-modification | 1,688 | 1 | 0.42 | 703 | 11.31 | 7,952
OAHM Client Impact Evaluation Interview Baseline | 2,250 | 1 | 0.33 | 750 | 11.31 | 8,483
OAHM Client Impact Evaluation Interview Post-modification | 1,688 | 1 | 0.33 | 563 | 11.31 | 6,362
Script to Schedule Client Process Evaluation Interview | 188 | 1 | 0.08 | 16 | 11.31 | 177
Client Process Evaluation Interview | 169 | 1 | 0.50 | 84 | 11.31 | 954
Total Annual |  |  | 2.53 | 4,397 |  | 49,729
Total Over 3 Years |  |  | 7.60 | 13,191 |  | 149,186
* Over the three-year period of performance for the OAHMP grant, we expect up to 9,000 clients may apply for services. Of these potential clients, we conservatively estimate 33% (or 4,433) will be determined ineligible, 25% (or 2,250) will not consent to participate in the Evaluation, and another 25% (or 1,688) will be lost to Evalution follow-up six- to nine-months after the homes have received modifications. Of the 5,625 homes expected to receive modifications, up to 563 clients are expected to be contacted to participate in the Client Process Evaluation Interview and up to 506 are anticipated to participate.

Estimated Combined Time and Costs
| Annualized total grantee | Annualized total client | Annualize total combined | Total number of years | Total over three years
Cost | $62,904 | $49,729 | $112,633 | 3 | $337,898
Hours | 1,880 | 4.397 | 6,277 | 3 | 18,831

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond, including through the use of appropriate automated collection techniques or other forms of information technology, e.g., permitting electronic submission of responses. HUD encourages interested parties to submit comment in response to these questions.

C. Authority

Section 3507 of the Paperwork Reduction Act of 1995, 44 U.S.C. Chapter 35.

The General Deputy Assistant Secretary for Policy Development and Research, Todd M. Richardson, having reviewed and approved this document, is delegating the authority to electronically sign this document to submitter, Nacheshia Foxx, who is the Federal Register Liaison for HUD, for purposes of publication in the Federal Register.

Nacheshia Foxx,
Federal Liaison for the Department of Housing and Urban Development.

[FR Doc. 2021-19715 Filed 9-13-21; 8:45 am]

BILLING CODE 4210-67-P